DEPARTMENT OF AGRICULTURE

Federal Crop Insurance Corporation

7 CFR Part 457

Common Crop Insurance Regulations; Forage Seeding Crop Provisions

AGENCY: Federal Crop Insurance Corporation, USDA.

ACTION: Final rule; correction.

SUMMARY: This document contains corrections to the final regulation which was published Wednesday, August 15, 2001 (66 FR 42729-42730). The regulation pertains to the Forage Seeding Crop Provisions for 2003 and subsequent crop years.

EFFECTIVE DATE: This rule is effective upon publication in the Federal Register.

FOR FURTHER INFORMATION CONTACT: Arden Routh, Insurance Management Specialist, Product Development Division, Federal Crop Insurance Corporation, United States Department of Agriculture, 6501 Beacon Drive, Kansas City, MO, 64133, telephone (816) 926-7730.

SUPPLEMENTARY INFORMATION:

Background

The final regulation that is the subject of this correction was to provide policy changes to better meet the needs of the insured.

Need for Correction

As published, the final regulations contained an error which may prove to be misleading and is in need of correcting. The final rule for the Forage Seeding Crop Provisions did not contain language in section 13(b) that “Acreage that is harvested and not reseeded,” will be included as acreage with an established stand.

Correction of Publication

Accordingly, the publication on August 15, 2001, of the final regulation at 66 FR 42729-42730 is corrected as follows:

PART 457—[CORRECTED]

§ 457.151 [Corrected]

On page 42730, in the third column in § 457.151, the crop provisions section 13(b) is corrected to read as follows:

* * * * *

(b) The acres with an established stand will include:

(1) Acreage that has at least 75 percent of a normal stand;

(2) Acreage abandoned or put to another use without our prior written consent;

(3) Acreage damaged solely by an uninsured cause; or

(4) Acreage that is harvested and not reseeded.

* * * * *

Signed in Washington, DC, on October 15, 2001.
Phyllis W. Honor,
Acting Manager, Federal Crop Insurance Corporation.

[FR Doc. 01-26396 Filed 10-18-01; 8:45 am]

BILLING CODE 3410-08-P